DEPARTMENT OF THE INTERIOR

Fish and Wildlife Service

50 CFR Part 17

[Docket No. FWS-R9-ES-2010-0086; MO 92210-0-0010 B6]

Endangered and Threatened Wildlife and Plants; 90-Day Finding on a Petition To List All Chimpanzees (Pan troglodytes) as Endangered

AGENCY: Fish and Wildlife Service, Interior.

ACTION: Notice of petition finding and initiation of status review; correction, availability of supporting documents, and reopening of public comment period.

SUMMARY: On September 1, 2011, we, the U.S. Fish and Wildlife Service, published in the Federal Register a 90-day finding on a petition to list all chimpanzees (Pan troglodytes) as endangered under the Endangered Species Act of 1973, as amended. We are now correcting an incorrect Docket Number given under ADDRESSES in that document. We are also making the petition and the large volume of supporting documents submitted with the petition available to the public on http://www.regulations.gov. To allow the public adequate time to review the petition and provide information, we are reopening the public comment period for an additional 90 days. However, please note that information already submitted does not need to be resubmitted.

DATES: We request that we receive information on or before January 30, 2012.

ADDRESSES: You may submit information by one of the following methods:

• Federal eRulemaking Portal: http://www.regulations.gov. Search for Docket No. FWS-R9-ES-2010-0086 and then follow the instructions for submitting comments.

• U.S. mail or hand-delivery: Public Comments Processing, Attn: FWS-R9-ES-2010-0086; Division of Policy and Directives Management; U.S. Fish and Wildlife Service; 4401 N. Fairfax Drive, MS 2042-PDM; Arlington, VA 22203.

We will post all information received on http://www.regulations.gov. This generally means that we will post any personal information you provide us. See the Information Solicited section of our September 1, 2011, notice (76 FR 54423) for more details.

FOR FURTHER INFORMATION CONTACT: Janine Van Norman, Chief, Branch of Foreign Species, Endangered Species Program, U.S. Fish and Wildlife Service, 4401 N. Fairfax Drive, Room 420, Arlington, VA 22203; telephone (703) 358-2171; facsimile (703) 358-1735. If you use a telecommunications device for the deaf (TDD), please call the Federal Information Relay Service (FIRS) at 800-877-8339.

SUPPLEMENTARY INFORMATION: On September 1, 2011, we published in the Federal Register (76 FR 54423) a 90-day finding on a petition to list all chimpanzees (Pan troglodytes) as endangered under the Endangered Species Act of 1973, as amended (16 U.S.C. 1531 et seq.; Act). This publication opened a public comment period, which ended on October 31, 2011. Upon publication, we initiated a review of the status of the species to determine if listing the entire species as endangered is warranted. To ensure that this status review is comprehensive, we requested scientific and commercial data and other information regarding this species from the public, concerned governmental agencies, the scientific community, industry, or any other interested parties. For details on what kinds of information we are requesting, see our September 1, 2011, document, which can be found on our Web site at http://www.fws.gov/policy/library/2011/2011-22372.pdf or at http://www.regulations.gov. Based on the status review, we will issue a 12-month finding on the petition, which will address whether the petitioned action is warranted, as provided in section 4(b)(3)(B) of the Act.

During the course of the comment period for our September 1, 2011, petition finding document, it came to our attention that the docket number given under ADDRESSES for U.S. mail and hand-delivery was incorrect. Therefore, we are correcting this error. Please be assured that any hard-copy comments submitted on this petition finding to the incorrect docket number that published (FWS-R9-IA-2008-0123) will be routed to the correct docket and do not need to be resubmitted. Moreover, the docket number that published for comments submitted via http://www.regulations.gov was correct, so comments submitted electronically have already been posted to the docket and do not need to be resubmitted.

Additionally, we are now making the petition available to the public on http://www.regulations.gov (Docket No. FWS-R9-ES-2010-0086). This petition includes a large volume of supporting documents. To allow the public adequate time to review these documents and provide information, we are reopening the comment period for an additional 90 days to allow all interested parties to submit information. However, please note that information already submitted to us does not need to be resubmitted.

Dated: October 18, 2011.
Hannibal Bolton,
(Acting) Director, U.S. Fish and Wildlife Service.

[FR Doc. 2011-28126 Filed 10-31-11; 8:45 am]

BILLING CODE 4310-55-P